DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

EFFECTIVE DATE: April 21, 2008.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Pennsylvania

Installation Name: 1st LT Ray S. Musselman Memorial U.S. Army Reserve Center.

LRA Name: Musselman Memorial Army Reserve Center Local Redevelopment Authority.

Point of Contact: Steven Nelson, Director of Policy, Montgomery County.

Address: County of Montgomery Court House, P.O. Box 311, Norristown, PA 19404-0311.

Phone: (610) 278-1462.

Washington

Installation Name: MAJ David P. Oswald U.S. Army Reserve Center.

LRA Name: City of Everett.

Point of Contact: Allan Giffen, Planning Director, Planning and Community Development, City of Everett.

Address: 2930 Wetmore Avenue, Suite 8-A, Everett, WA 98201.

Phone: (425) 257-8731.

Dated: April 8, 2008
L.M. Bynum,
OSD Federal Register Liaison Officer, Department of Defense.

[FR Doc. E8-8591 Filed 4-18-08; 8:45 am]

BILLING CODE 5001-06-P